OVERSEAS PRIVATE INVESTMENT CORPORATION

Sunshine Act Meeting; OPIC Annual Public Hearing

TIME AND DATE: 1 p.m., Wednesday, March 11, 2015.

PLACE: Offices of the Corporation, Twelfth Floor Board Room, 1100 New York Avenue NW., Washington, DC

STATUS: Hearing OPEN to the Public at 1 p.m.

PURPOSE: Annual Public Hearing to afford an opportunity for any person to present views regarding the activities of the Corporation.

PROCEDURES: Individuals wishing to address the hearing orally must provide advance notice to OPIC's Corporate Secretary no later than 5 p.m. Friday, February 27, 2015. The notice must include the individual's name, title, organization, address, email, telephone number, and a concise summary of the subject matter to be presented.

Oral presentations may not exceed ten (10) minutes. The time for individual presentations may be reduced proportionately, if necessary, to afford all participants who have submitted a timely request an opportunity to be heard.

Participants wishing to submit a written statement for the record must submit a copy of such statement to OPIC's Corporate Secretary no later than 5 p.m. Friday, February 27, 2014. Such statement must be typewritten, double-spaced, and may not exceed twenty-five (25) pages.

Upon receipt of the required notice, OPIC will prepare an agenda for the hearing identifying speakers, setting forth the subject on which each participant will speak, and the time allotted for each presentation. The agenda will be available at the hearing.

A written summary of the hearing will be compiled, and such summary will be made available, upon written request to OPIC's Corporate Secretary, at the cost of reproduction.

CONTACT PERSON FOR INFORMATION: Information on the hearing may be obtained from Connie M. Downs at (202) 336-8438, or via email at connie.downs@opic.gov.

SUPPLEMENTARY INFORMATION: OPIC is a U.S. Government agency that provides, on a commercial basis, political risk insurance and financing in friendly developing countries and emerging democracies for environmentally sound projects that confer positive developmental benefits upon the project country while creating employment in the U.S. OPIC is required by section 231A(c) of the Foreign Assistance Act of 1961, as amended (the “Act”) to hold at least one public hearing each year.

Dated: January 20, 2015.
Connie M. Downs,
OPIC Corporate Secretary.

[FR Doc. 2015-01132 Filed 1-20-15; 11:15 am]

BILLING CODE 3210-01-P